DEPARTMENT OF STATE

[Public Notice: 11936]

30-Day Notice of Proposed Information Collection: Department of State Acquisition Regulation (DOSAR)

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this notice is to allow 30 days for public comment.

DATES: Submit comments up to 30 days after the date of publication in the Federal Register.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument, and supporting documents, to Hilary Schroeder, who may be reached at (202) 890-9798 or at schroederhr@state.gov.

SUPPLEMENTARY INFORMATION:

• Title of Information Collection: Department of State Acquisition Regulation (DOSAR).

• OMB Control Number: 1405-0050.

• Type of Request: Extension of a currently approved collection.

• Originating Office: A/OPE/AP/SCPD.

• Form Number: No form.

• Respondents: Offerors and awardees of Department of State solicitations and contracts.

• Estimated Number of Respondents: 2,897.

• Estimated Number of Responses: 3,095.

• Average Time per Response: 82 hours.

• Total Estimated Burden Time: 253,416.

• Frequency: On occasion.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This collection includes DOSAR provisions and clauses implemented via solicitations and contracts to ensure offerors meet qualifications and awardees meet specific post-award requirements.

Methodology

Information is collected electronically.

Sharon D. James,
Acting Office Director, Office of the Procurement Executive, Office of Acquisition Policy (A/OPE/OAP), Department of State.

[FR Doc. 2022-27015 Filed 12-12-22; 8:45 am]

BILLING CODE 4710-24-P